BUREAU OF CONSUMER FINANCIAL PROTECTION

Privacy Act of 1974, as Amended

AGENCY: Bureau of Consumer Financial Protection.

ACTION: Notice of Proposed Privacy Act System of Records.

SUMMARY: In accordance with the Privacy Act of 1974, as amended, the Bureau of Consumer Financial Protection, hereinto referred to as the Consumer Financial Protection Bureau (“CFPB”) gives notice of the establishment of a Privacy Act System of Records.

DATES: Comments must be received no later than August 31, 2011. The new database will be effective September 12, 2011, unless the comments received result in a contrary determination.

ADDRESSES: You may submit comments, identified by Docket No. CFPB-2011-0010, by any of the following methods:

• Electronic: http://www.regulations.gov. Follow the instructions for submitting comments.

• Mail or Hand Delivery/Courier in Lieu of Mail: Claire Stapleton, Chief Privacy Officer, Consumer Financial Protection Bureau, 1801 L Street, NW., Washington, DC 20036.

All submissions must include the agency name and docket number or Regulatory Information Number (RIN) for this notice. In general all comments received will be posted without change to http://www.regulations.gov. In addition, comments will be available for public inspection and copying at 1801 L St., NW., Washington, DC 20036, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1801 L Street, NW., Washington, DC 20036, (202) 435-7220.

SUPPLEMENTARY INFORMATION: The Dodd-Frank Wall Street Reform and Consumer Protection Act (“Act”), Public Law No. 111-203, Title X, established the CFPB to administer and enforce Federal consumer financial protection law. The CFPB will maintain the records covered by this notice.

The new system of records described in this notice, CFPB.001—Freedom of Information Act (“FOIA”)/Privacy Act (“PA”) System will be used by the CFPB to collect, process, log, track, and respond to all FOIA and/or PA related requests. It will be used to appropriately document information about the requestors' and/or entities' requests and the CFPB staff assigned to process, consider, and respond to the requests. The system will serve as the central repository for submitted requests for access to, correction of, and/or amendment to CFPB records. It will document the accounting of disclosures of records under FOIA and/or PA to include the status of requested records; responses to the requests; process responsive records; process FOIA-related calculations and fees; and proactively address frequently-requested records publicly available under the CFPB rules of practice and FOIA/PA requirements. It will also be used to maintain records, document the consideration and disposition of these requests for annual reporting, statistical analysis, fee management, and recordkeeping purposes. A description of the new system of records follows this Notice.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

Dated: July 27, 2011.
Claire Stapleton,
Chief Privacy Officer.

CFPB.001

System Name:

CFPB Freedom of Information Act/Privacy Act System.

System Location:

Consumer Financial Protection Bureau, 1801 L Street, NW., Washington, DC 20036.

Categories of individuals covered by the system:

Individuals covered by this system are persons who cite the Freedom of Information Act or Privacy Act to request access to records or whose information requests are treated as FOIA requests. Other individuals covered include CFPB staff assigned to process such requests, and employees who may have responsive records or are mentioned in such records. FOIA requests are subject to the PA only to the extent that they concern individuals; information pertaining to corporations and other business entities and organizations are not subject to the PA.

Categories of records in the system:

Records in the system may contain: (1) Correspondence with the requester including initial requests and appeals; (2) documents generated or compiled during the search and processing of the request; (3) fee schedules, cost calculations, and accessed cost for disclosed FOIA records; (4) documents and memoranda supporting the decision made in response to the request, referrals, and copies of records provided or withheld; (5) CFPB staff assigned to process, consider, and respond to requests and, where a request has been referred to another agency with equities in a responsive document, information about the individual handling the request on behalf of that agency; (6) information identifying the entity that is subject to the requests or appeals; (7) requester information, including name, address, phone number, email address; FOIA tracking number, phone number, fax number, or some combination thereof; and (8) for access requests under the Privacy Act, identifying information regarding both the party who is making the written request or appeal, and the individual on whose behalf such written requests or appeals are made, including name, social security number (SSNs may be submitted with documentation or as proof of identification), address, phone number, email address, FOIA number, phone number, fax number, or some combination thereof.

Authority for maintenance of the system:

Pub. L. 111-203, Title X, Sections 1011, 1012, 1021, codified at 12 U.S.C. 5491, 5492, 5511; The Freedom of Information Act of 1996, as amended 5 U.S.C. 552; Privacy Act of 1974, as amended 5 U.S.C. 552a.¹

¹ Section 1066 of the Act grants the Secretary of the Treasury interim authority to perform certain functions of the CFPB. Pursuant to that authority, Treasury published rules on the Disclosure of Records and Information within 12 CFR Chapter X. This SORN is published pursuant to those rules and the Privacy Act.

Purpose:

The information in the system is being collected to enable the CFPB to carry out its responsibilities under the FOIA and the PA, including enabling staff to receive, track, and respond to requests. This requires maintaining documentation gathered during the consideration and disposition process, administering annual reporting requirements, managing FOIA-related fees and calculations, and delivering responsive records.

Routine uses of records maintained in the system, including categories of users and the purposes of such uses:

These records may be disclosed, consistent with the CFPB Disclosure of Records and Information Rules promulgated in the title of the CFR to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another Federal or state agency to: (a) Permit a decision as to access, amendment, or correction of records to be made in consultation with or by that agency; or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) Any authorized agency or component of the Department of Treasury, the Department of Justice, the Federal Reserve System, the Federal Deposit Insurance Corporation or other law enforcement authorities including disclosure by such authorities:

(a) To the extent relevant and necessary in connection with litigation in proceedings before a court or other adjudicative body, where (i) The United States is a party to or has an interest in the litigation, including where the agency, or an agency component, or an agency official or employee in his or her official capacity, or an individual agency official or employee whom the Department of Justice or the Bureau has agreed to represent, is or may likely become a party, and (ii) the litigation is likely to affect the agency or any component thereof; or

(b) To outside experts or consultants when considered appropriate by CFPB staff to assist in the conduct of agency matters;

(7) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings; and

(9) Appropriate agencies, entities, and persons, including but not limited to potential expert witnesses or witnesses in the course of investigations, to the extent necessary to secure information relevant to the investigation.

Policies and practices for storing, retrieving, accessing, retaining, and dispensing of records in the system:

Storage:

Paper and electronic records.

Retrievability:

Records are retrievable by a variety of fields including, but not limited to, the requester's name, the subject matter of request, requestor's organization, FOIA tracking number, and staff member assigned to process the request. Records may also be searched by the address, phone number, fax number, e-mail address of the requesting party, and subject matter of the request, or by some combination thereof.

Safeguards:

Access to electronic records is restricted to authorized personnel who have been issued non-transferrable access codes and passwords. Other records are maintained in locked file cabinets or rooms with access limited to those personnel whose official duties require access.

Retention and disposal:

Computer and paper records will be maintained in accordance with published National Archives and Records Administration Disposition Schedule, Transmittal No. 22, General Records Schedule 14, Information Service Records.

System manager(s) and address:

Consumer Financial Protection Bureau, Chief FOIA Officer, 1801 L Street, NW., Washington, DC 20036.

Notification procedure:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1801 L St., NW., Washington, DC 20036.

Record access procedures:

See “Notification Procedure” above.

Contesting record procedures:

See “Notification Procedure” above.

Record source categories:

Information in this system covers individuals about whom records are maintained; agency staff assigned to help process, consider, and respond to the request, including any appeals; entities filing requests or appeals on behalf of the requestor; other governmental authorities; and entities that are the subjects of the request or appeals.

Exemptions claimed for the system:

None.

[FR Doc. 2011-19429 Filed 7-29-11; 8:45 am]

BILLING CODE 4810-25-P